EXPORT-IMPORT BANK

[Public Notice: 2015-6013]

Agency Information Collection Activities: Comment Request

AGENCY: Export-Import Bank of the United States.

ACTION: Submission for OMB review and comments request.

Form Title: EIB 03-02, Application for Medium Term Insurance or Guarantee

SUMMARY: The Export-Import Bank of the United States (Ex-Im Bank), as a part of its continuing effort to reduce paperwork and respondent burden, invites the general public and other Federal Agencies to comment on the proposed information collection, as required by the Paperwork Reduction Act of 1995.

The purpose of this collection is to gather information necessary to make a determination of eligibility of a transaction for Ex-Im Bank assistance under its medium-term guarantee and insurance program.

The Export-Import Bank has made a change to the report to have the financial institution provide specific information (industry code, number of employees and annual sales volume) needed to make a determination as to whether or not the exporter meets the SBA's definition of a small business. The financial institution already provides the exporter's name and address. These additional pieces of information will allow Ex-Im Bank to better track the extent to which its support assists U.S. small businesses.

The other change that Ex-Im Bank has made is to require the financial institution to indicate whether the exporter is a minority-owned business, women-owned business and/or veteran-owned business. Although answers to the questions are mandatory, the company may choose any one of the three answers: Yes/No/Decline to Answer. The option of “Decline to Answer” allows a company to consciously decline to answer the specific question should they not wish to provide that information. The form can be viewed at: http://www.exim.gov/sites/default/files/pub/pending/eib03-02_0.pdf.

DATES: Comments should be received on or before August 31, 2015, to be assured of consideration.

ADDRESSES: Comments may be submitted electronically on http://www.regulations.gov (EIB:03-02) or by mail to Michele Kuester, Export-Import Bank of the United States, 811 Vermont Ave NW., Washington, DC 20571.

SUPPLEMENTARY INFORMATION:

Titles and Form Number: EIB 03-02, Application for Medium Term Insurance or Guarantee.

OMB Number: 3048-0014.

Type of Review: Regular.

Need and Use: The purpose of this collection is to gather information necessary to make a determination of eligibility of a transaction for Ex-Im Bank assistance under its medium-term guarantee and insurance program.

Affected Public: This form affects entities involved in the export of U.S. goods and services.

Annual Number of Respondents: 400.

Estimated Time per Respondent: 1.2 hour.

Annual Burden Hours: 480 hours.

Frequency of Reporting or Use: As needed.

Government Expenses:

Reviewing Time per Year: 700 hours.

Average Wages per Hour: $42.50.

Average Cost per Year: $29,750 (time*wages).

Benefits and Overhead: 20%.

Total Government Cost: $35,700.

Bonita Jones-McNeil,
Agency Clearance Officer, Records Management Division, Office of the Chief Information Officer.

[FR Doc. 2015-16065 Filed 6-30-15; 8:45 am]

BILLING CODE 6690-01-P